DEPARTMENT OF LABOR

Employment and Training Administration

[TA-W-50,643]

Aran Mold & Die Company, Incorporated, Elmwood Park, NJ; Notice of Affirmative Determination Regarding Application for Reconsideration

By letter of April 2, 2003, a petitioner requested administrative reconsideration of the Department of Labor's Notice of Negative Determination Regarding Eligibility to Apply for Worker Adjustment Assistance, applicable to workers of the subject firm. The denial notice was signed on February 12, 2003, and published in the Federal Register on March 26, 2003 (68 FR 14708).

The Department reviewed the request for reconsideration and has determined that the subject firm workers did produce a product (plastic injection molds). Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 15th day of April, 2003.
Edward A. Tomchick,
Director, Division of Trade Adjustment Assistance.

[FR Doc. 03-10139 Filed 4-23-03; 8:45 am]

BILLING CODE 4510-30-P